DEPARTMENT OF ENERGY

Federal Energy Regulatory Commission

[Docket No. CP01-438-000]

Northwest Pipeline Corporation; Notice of Site Visit

October 17, 2001.

On October 23-24, 2001, the Office of Energy Projects (OEP) staff will conduct a pre-certification site visit of Northwest Pipeline Corporation's (Northwest) Rockies Expansion Project in various counties in Wyoming and Idaho. We will examine the proposed project route and possible route variations. An aerial inspection is scheduled for the entire route on the 23rd and the morning of the 24th. A ground inspection will be conducted by automobile and on foot on the afternoon of the 24th. The ground inspection will be limited to the proposed Pocatello Loop route. Representatives of Northwest will be accompanying the OEP staff.

All interested parties may attend. Those planning to attend must provide their own transportation. For further information on attending the site visit, please contact the Commission's Office of External Affairs at (202) 208-0004.

David P. Boergers,
Secretary.

[FR Doc. 01-26597 Filed 10-22-01; 8:45 am]

BILLING CODE 6717-01-P